DEPARTMENT OF HEALTH AND HUMAN SERVICES

Centers for Disease Control and Prevention

[Docket No. CDC-2017-0019]

Notice of Availability of the Final Environmental Assessment and Finding of No Significant Impact for HHS/CDC Chamblee Campus 2025 Master Plan, Chamblee, Georgia

AGENCY: Centers for Disease Control and Prevention, Department of Health and Human Services (HHS).

ACTION: Notice of Availability of the Final Environmental Assessment and Finding of No Significant Impact.

SUMMARY: The Centers for Disease Control and Prevention (CDC), within the Department of Health and Human Services (HHS) announces the availability of the Final Environmental Assessment (EA) and a Finding of No Significant Impact (FONSI) for the CDC Chamblee Campus 2025 Master Plan.

FOR FURTHER INFORMATION CONTACT: Angela Wagner, Portfolio Manager, Centers for Disease Control and Prevention, 1600 Clifton Road NE., MS-K96, Atlanta, Georgia 30329, Telephone: (770) 488-8170.

SUPPLEMENTARY INFORMATION: On March 22, 2017 CDC announced the availability for public comment of a Draft Environmental Assessment (Draft EA) for the implementation of the CDC Chamblee Campus 2025 Master Plan (Master Plan) (82 FR 14733). CDC's Chamblee Campus is located at 4770 Buford Highway, Chamblee, Georgia. The Draft EA was available for a 60-day public comment period that ended on May 22, 2017. Six comments were received to the docket; none of the comments raised specific issues or concerns with the methodology, analysis, conclusion or accuracy of the EA.

The Draft EA was prepared in accordance with the National Environmental Policy Act of 1969 (NEPA), as amended (42 U.S.C. 4321 et seq.), the Council on Environmental Quality (CEQ) implementing regulations (40 CFR 1500-1508) and the HHS General Administration Manual (GAM) Part 30 Environmental Procedures, dated February 25, 2000. CDC has determined that the proposed action would not have a significant impact on the human or natural environment and therefore, the preparation of an Environmental Impact Statement is not required. Copies of the FONSI and/or Final EA are available by contacting Angela Wagner (please see FOR FURTHER INFORMATION CONTACT).

The Chamblee Campus 2025 Master Plan provides a framework for future growth on the Chamblee Campus in order to ensure that the campus can support CDC's mission and to guide strategic decisions about the allocation of Federal resources. The Master Plan identifies a number of potential improvements that may be completed through the 2025 timeframe, and establishes design and planning guidelines.

The proposed improvements include: (1) New building construction, including an approximately 386,000 gross square feet (gsf) office building, an approximately 415,000 gsf laboratory building and an adjacent approximately 10,000 gsf laboratory material handling facility; and a new, approximately 20,000 gsf, central utility plant (CUP); (2) building demolition; (3) expansion and reconfiguration of parking on campus; (4) installation of a comprehensive solar photovoltaic system; (5) improvements to the campus entrances; and (6) additional infrastructure improvements.

CDC assessed the potential impacts of the proposed improvements on the natural and human environment and determined that the proposed action would not result in significant adverse impacts. Based on the results of the Final EA, CDC has issued a FONSI indicating the proposed action will not have a significant impact on the environment. The Build Alternative will be undertaken in accordance with the best management practices (BMPs), minimization and mitigation measures as presented in the Final EA and FONSI.

Dated: October 25, 2017.
Sandra Cashman,
Executive Secretary, Centers for Disease Control and Prevention.

[FR Doc. 2017-23668 Filed 10-30-17; 8:45 am]

BILLING CODE 4163-18-P